DEPARTMENT OF HEALTH AND HUMAN SERVICES

National Institutes of Health

Center for Scientific Review; Amended Notice of Meeting

Notice is hereby given of a change in the meeting of the Center for Scientific Review Special Emphasis Panel, February 07, 2013, 01:30 p.m. to February 07, 2013, 02:30 p.m., Crown Plaza Riverwalk, 111 Peach Street, San Antonio, TX, 78205 which was published in the Federal Register on January 17, 2013, 78 FR 3904.

The meeting will be held March 5, 2013, from 11:00 a.m. to 12:00 p.m. The meeting location has changed to National Institutes of Health, 6701 Rockledge Drive, Bethesda, MD 20892. The meeting is closed to the public.

Dated: February 26, 2013.
Michelle Trout,
Program Analyst, Office of Federal Advisory Committee Policy.

[FR Doc. 2013-04851 Filed 3-1-13; 8:45 am]

BILLING CODE 4140-01-P